DEPARTMENT OF ENERGY

Federal Energy Regulatory Commission

Combined Notice of Filings #1

September 22, 2010.

Take notice that the Commission received the following electric corporate filings:

Docket Numbers: EC10-97-000.

Applicants: APX, Inc.

Description: APX, Inc submits Application for Authorization under Section 203 of the Federal Power Act and Request for Expedited Action and Confidential Treatment.

Filed Date: 09/20/2010.

Accession Number: 20100921-0205.

Comment Date: 5 p.m. Eastern Time on Tuesday, October 12, 2010.

Docket Numbers: EC10-99-000.

Applicants: Cross-Sound Cable Company, LLC, Prime Infrastructure Group, BIP Bermuda Holdings IV Limited, BIP Bermuda Holdings I Limited, Brookfield Infrastructure L.P., Brookfield Infrastructure Partners L.P., Brookfield Infrastructure Partners Limit, Brookfield Infrastructure GP L.P., Brookfield Infrastructure General Partner, Brookfield Renewable Power Inc., Great Lakes Holding Inc., Brookfield Asset Management Inc.

Description: Application for Authorization Under Section 203 of the Federal Power Act, and for Expedited Consideration, Confidential Treatment and Waivers of Cross-Sound Cable Company, LLC et al.

Filed Date: 09/21/2010.

Accession Number: 20100921-5174.

Comment Date: 5 p.m. Eastern Time on Tuesday, October 12, 2010.

Docket Numbers: EC10-100-000.

Applicants: Sempra Energy Solutions LLC, Noble Americas Gas and Power Corp.

Description: Application for Authorization for Disposition of Jurisdictional Facilities, Acquisition of Securities by a Public Utility, and Request for Expedited Action of Sempra Energy Solutions LLC and Noble Americas Gas and Power Corp.

Filed Date: 09/22/2010.

Accession Number: 20100922-5129.

Comment Date: 5 p.m. Eastern Time on Wednesday, October 13, 2010.

Take notice that the Commission received the following electric rate filings:

Docket Numbers: ER99-4102-009.

Applicants: Milford Power Company, LLC.

Description: Supplement to Notice of Change in Status of Milford Power Company, LLC.

Filed Date: 09/21/2010.

Accession Number: 20100921-5109.

Comment Date: 5 p.m. Eastern Time on Tuesday, October 12, 2010.

Docket Numbers: ER03-198-015.

Applicants: Pacific Gas and Electric Company.

Description: Pacific Gas and Electric Company Notice of Non-Material Change in Status.

Filed Date: 09/21/2010.

Accession Number: 20100921-5121.

Comment Date: 5 p.m. Eastern Time on Tuesday, October 12, 2010.

Docket Numbers: ER10-192-005.

Applicants: Public Service Company of Colorado.

Description: Xcel Energy submits a fully-executed Offer of Settlement and Settlement Agreement.

Filed Date: 08/26/2010.

Accession Number: 20100826-0201.

Comment Date: 5 p.m. Eastern Time on Wednesday, September 29, 2010.

Docket Numbers: ER10-1350-003.

Applicants: Entergy Services, Inc.

Description: Errata to 2010 Bandwidth Filing of Entergy Services, Inc.

Filed Date: 09/21/2010.

Accession Number: 20100921-5176.

Comment Date: 5 p.m. Eastern Time on Tuesday, October 12, 2010.

Docket Numbers: ER10-1732-000; ER10-1733-000.

Applicants: Midwest Independent Transmission System Operator, Inc.

Description: Midwest ISO's Response to the Commission's 9/3/10 Deficiency Letter.

Filed Date: 09/20/2010.

Accession Number: 20100920-5178.

Comment Date: 5 p.m. Eastern Time on Tuesday, October 12, 2010.

Docket Numbers: ER10-1732-000; ER10-1733-000.

Applicants: Midwest Independent Transmission System Operator, Inc.

Description: Wisconsin Electric Power Company submits responses to the Commission's data request.

Filed Date: 09/20/2010.

Accession Number: 20100921-0001.

Comment Date: 5 p.m. Eastern Time on Tuesday, October 12, 2010.

Docket Numbers: ER10-1732-000; ER10-1733-000.

Applicants: Midwest Independent Transmission System Operator, Inc.

Description: LSP-Whitewater Limited Partnership response to the Commission's 9/3/10 Data Request re the unexecuted Generator Interconnection Agreement.

Filed Date: 09/20/2010.

Accession Number: 20100921-0002.

Comment Date: 5 p.m. Eastern Time on Tuesday, October 12, 2010.

Docket Numbers: ER10-1808-002.

Applicants: Western Massachusetts Electric Company.

Description: Western Massachusetts Electric Company submits tariff filing per 35: WMECO Compliance filing of Certificate of Concurrence to be effective 7/19/2010.

Filed Date: 09/07/2010

Accession Number: 20100907-5150.

Comment Date: 5 p.m. Eastern Time on Tuesday, September 28, 2010.

Docket Numbers: ER10-2522-001.

Applicants: Top of the World Wind Energy, LLC.

Description: Top of the World Wind Energy, LLC submits tariff filing per 35.17(b): Supplement to MBR Application to be effective 9/3/2010.

Filed Date: 09/22/2010

Accession Number: 20100922-5134.

Comment Date: 5 p.m. Eastern Time on Wednesday, October 13, 2010.

Docket Numbers: ER10-2567-001.

Applicants: Kit Carson Windpower, LLC.

Description: Kit Carson Windpower, LLC submits tariff filing per 35.17(b): Supplement to MBR Application to be effective 10/1/2010.

Filed Date: 09/22/2010.

Accession Number: 20100922-5131.

Comment Date: 5 p.m. Eastern Time on Wednesday, October 13, 2010.

Docket Numbers: ER10-2790-000.

Applicants: Power Contract Finance, LLC.

Description: Power Contract Finance, LLC submits a Notice of Cancellation of their market-based rate schedule, Electric Rate Schedule FERC 1.

Filed Date: 09/20/2010.

Accession Number: 20100921-0204.

Comment Date: 5 p.m. Eastern Time on Tuesday, October 12, 2010.

Docket Numbers: ER10-2803-000.

Applicants: Discount Energy Group, LLC.

Description: Discount Energy Group, LLC submits Petition for Acceptance of Initial Tariff, Waivers and Blanket Authority et al.

Filed Date: 09/21/2010.

Accession Number: 20100921-0211.

Comment Date: 5 p.m. Eastern Time on Tuesday, October 12, 2010.

Docket Numbers: ER10-2804-000.

Applicants: Public Service Company of Colorado.

Description: Public Service Company of Colorado submits tariff filing per 35.37: 2010_09_21 PSCo Triennial Revision to be effective N/A.

Filed Date: 09/21/2010.

Accession Number: 20100921-5110.

Comment Date: 5 p.m. Eastern Time on Tuesday, October 12, 2010.

Docket Numbers: ER10-2805-000.

Applicants: Central Hudson Gas & Electric Corporation.

Description: Central Hudson Gas & Electric Corporation submits tariff filing per 35.12: Baseline Filing—CHG&E MBR to be effective 9/22/2010.

Filed Date: 09/21/2010.

Accession Number: 20100921-5111.

Comment Date: 5 p.m. Eastern Time on Tuesday, October 12, 2010.

Docket Numbers: ER10-2806-000.

Applicants: TransAlta Energy Marketing (U.S.) Inc.

Description: TransAlta Energy Marketing (U.S.) Inc. submits tariff filing per 35.12: TEMUS Baseline Tariff to be effective 9/21/2010.

Filed Date: 09/21/2010.

Accession Number: 20100921-5115.

Comment Date: 5 p.m. Eastern Time on Tuesday, October 12, 2010.

Docket Numbers: ER10-2807-000.

Applicants: TransAlta Energy Marketing Corporation.

Description: TransAlta Energy Marketing Corporation submits tariff filing per 35.12: TransAlta Centralia Generation Baseline Tariff filing to be effective 9/21/2010.

Filed Date: 09/21/2010.

Accession Number: 20100921-5116.

Comment Date: 5 p.m. Eastern Time on Tuesday, October 12, 2010.

Docket Numbers: ER10-2808-000.

Applicants: Freeport-McMoRan Copper & Gold Energy Services, LLC.

Description: Freeport-McMoRan Copper & Gold Energy Services, LLC submits tariff filing per 35.12: FMES FERC Electric MBR Second Revised Volume No. 1 to be effective 9/21/2010.

Filed Date: 09/21/2010.

Accession Number: 20100921-5140.

Comment Date: 5 p.m. Eastern Time on Tuesday, October 12, 2010.

Docket Numbers: ER10-2809-000.

Applicants: Palama, LLC.

Description: Palama, LLC submits tariff filing per 35.12: Palama, LLC Baseline Market-Based Rate Tariff Filing to be effective 9/21/2010.

Filed Date: 09/21/2010.

Accession Number: 20100921-5143.

Comment Date: 5 p.m. Eastern Time on Tuesday, October 12, 2010.

Docket Numbers: ER10-2810-000.

Applicants: Barclays Capital Energy Inc.

Description: Barclays Capital Energy Inc. submits tariff filing per 35.12: Baseline to be effective 9/21/2010.

Filed Date: 09/21/2010.

Accession Number: 20100921-5148.

Comment Date: 5 p.m. Eastern Time on Tuesday, October 12, 2010.

Docket Numbers: ER10-2811-000.

Applicants: Barclays Bank PLC.

Description: Barclays Bank PLC submits tariff filing per 35.12: Baseline to be effective 9/21/2010.

Filed Date: 09/21/2010.

Accession Number: 20100921-5149.

Comment Date: 5 p.m. Eastern Time on Tuesday, October 12, 2010.

Docket Numbers: ER10-2812-000

Applicants: GenConn Devon LLC

Description: GenConn Devon LLC submits tariff filing per 35.12: GenConn Devon FERC Electric Tariff to be effective 9/21/2010.

Filed Date: 09/21/2010.

Accession Number: 20100921-5154

Comment Date: 5 p.m. Eastern Time on Tuesday, October 12, 2010.

Docket Numbers: ER10-2813-000.

Applicants: Northwest Wind Partners, LLC.

Description: Northwest Wind Partners, LLC submits tariff filing per 35.15: Northwest Wind FERC Electric Tariff Cancellation to be effective 9/21/2010.

Filed Date: 09/21/2010.

Accession Number: 20100921-5155.

Comment Date: 5 p.m. Eastern Time on Tuesday, October 12, 2010.

Docket Numbers: ER10-2814-000.

Applicants: Sempra Generation.

Description: Sempra Generation submits tariff filing per 35.12: Sempra Generation FERC Electric Tariff Volume No. 1 Baseline Filing to be effective 9/21/2010.

Filed Date: 09/21/2010.

Accession Number: 20100921-5159.

Comment Date: 5 p.m. Eastern Time on Tuesday, October 12, 2010.

Docket Numbers: ER10-2815-000.

Applicants: Southern California Edison Company.

Description: Southern California Edison Company submits tariff filing per 35.13(a)(2)(iii): Revised Interconnection Facilities Agreement with City of Banning to be effective 11/22/2010.

Filed Date: 09/21/2010.

Accession Number: 20100922-5000.

Comment Date: 5 p.m. Eastern Time on Tuesday, October 12, 2010.

Docket Numbers: ER10-2816-000.

Applicants: Sierra Pacific Power Company.

Description: Sierra Pacific Power Company submits its baseline tariff filing FERC Electric Tariff Volume No. 1-Resale Tariff, to be effective 9/22/2010.

Filed Date: 09/22/2010.

Accession Number: 20100922-5008.

Comment Date: 5 p.m. Eastern Time on Wednesday, October 13, 2010.

Docket Numbers: ER10-2817-000.

Applicants: GearyEnergy, LLC.

Description: GearyEnergy, LLC submits tariff filing per 35.12: GearyEnergy, LLC Baseline eTariff Filing to be effective 9/23/2010.

Filed Date: 09/22/2010.

Accession Number: 20100922-5019.

Comment Date: 5 p.m. Eastern Time on Wednesday, October 13, 2010.

Docket Numbers: ER10-2818-000.

Applicants: TransAlta Energy Marketing Corporation.

Description: TransAlta Energy Marketing Corporation submits tariff filing per 35.12: TEMC Baseline Tariff Filing to be effective 9/22/2010.

Filed Date: 09/22/2010.

Accession Number: 20100922-5021.

Comment Date: 5 p.m. Eastern Time on Wednesday, October 13, 2010.

Docket Numbers: ER10-2819-000.

Applicants: ALLETE, Inc.

Description: ALLETE, Inc. submits tariff filing per 35.12: FERC Electric Tariff Wholesale Coordination Service Tariff No. 2 to be effective 9/22/2010.

Filed Date: 09/22/2010.

Accession Number: 20100922-5051.

Comment Date: 5 p.m. Eastern Time on Wednesday, October 13, 2010.

Docket Numbers: ER10-2820-000.

Applicants: Louisville Gas and Electric Company.

Description: Louisville Gas and Electric Company submits tariff filing per 35.13(a)(2)(iii): OATT Amendment Filing 09/22/10 to be effective 9/23/2010.

Filed Date: 09/22/2010.

Accession Number: 20100922-5054.

Comment Date: 5 p.m. Eastern Time on Wednesday, October 13, 2010.

Docket Numbers: ER10-2821-000.

Applicants: Stony Creek Wind Farm, LLC.

Description: Stony Creek Wind Farm, LLC submits tariff filing per 35.12: Baseline Tariff Filing For Stony Creek Wind Farm, LLC to be effective 9/22/2010.

Filed Date: 09/22/2010.

Accession Number: 20100922-5057.

Comment Date: 5 p.m. Eastern Time on Wednesday, October 13, 2010.

Docket Numbers: ER10-2822-000.

Applicants: Atlantic Renewable Projects II LLC.

Description: Atlantic Renewable Projects II LLC submits tariff filing per 35.12: Baseline Filing of Market-Based Rate Tariff to be effective 9/22/2010.

Filed Date: 09/22/2010.

Accession Number: 20100922-5058.

Comment Date: 5 p.m. Eastern Time on Wednesday, October 13, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-25087 Filed 10-5-10; 8:45 am]

BILLING CODE 6717-01-P